DEPARTMENT OF AGRICULTURE

Forest Service

Revised Land and Resource Management Plan, Manti-La Sal National Forest, Utah

AGENCY: Forest Service, USDA.

ACTION: Notice of intent to prepare an Environmental Impact Statement for a revised Land and Resource Management Plan for the Manti-La Sal National Forest, with portions of the Forest located in Utah, Juab, Emery, Carbon, Sanpete, Grand, San Juan and Sevier Counties in Utah and Mesa and Montrose Counties in Colorado.

SUMMARY: The Department of Agriculture, Forest Service will prepare an Environmental Impact Statement (EIS) in conjunction with revision of the Land and Resource Management Plan (Forest Plan).

This notice describes the needs for change in the current Forest Plan that have been identified by Manti-La Sal National Forest Supervisor, Alice B. Carlton, to be revised; the environmental issues to be considered in the revision; the estimated dates for filing the EIS; information concerning public participation; and the names and addresses of the responsible agency official and the individual who can provide additional information.

DATES: Comments regarding the scope of the analysis should be received in writing by December 21, 2004. The agency expects to file a Draft EIS in the fall of 2005 and a Final EIS in the late winter of 2006 or early spring of 2007.

ADDRESSES: Send written comments to: Alice B. Carlton, Forest Supervisor, Manti-La Sal National Forest, 599 West Price River Drive, Price, Utah 84501.

FOR FURTHER INFORMATION CONTACT: Marlene DePietro, Recreation and Planning Staff Officer, Manti-La Sal National Forest, (435) 636-3539.

Responsible Official: Jack Troyer, Intermountain Regional Forester, 324 25th St., Ogden, Utah 84401.

SUPPLEMENTARY INFORMATION: Pursuant to Part 36 Code of Federal Regulations (CFR) 219.10(g), the Regional Forester for the Intermountain Region gives notice of the agency's intent to prepare an Environmental Impact Statement to revise the Manti-La Sal National Forest Plan. According to 36 CFR 219.10(g), land and resource management plans shall ordinarily be revised on a 10 to 15 year cycle. The existing plan was approved November 5, 1986.

The Regional Forester gives notice that the Manti-La Sal National Forest is beginning an environmental analysis and the decision-making process for this proposed programmatic action to revise the Manti-La Sal Forest Plan.

The authorization of project-level activities on a forest occurs through project or site-specific decisions. Project-level decisions must comply with National Environmental Policy Act (NEPA) procedures and must include a determination that the project is consistent with the forest plan.

Needs for Change in the Current Forest Plan

The current Forest Plan was approved 17 years ago and has been amended 18 times. Experience and monitoring have shown the need for changes in management direction for some resources or programs. Several sources have highlighted needed changes in the current Forest Plan.

• Public involvement has identified new information and public values.

• Monitoring and scientific research has identified new information and knowledge gained.

• Forest Plan implementation has identified management concerns to find better ways for accomplishing desired conditions.

• Changes have occurred in Agency policy and direction (i.e., Four Threats, Forest Service Strategic Plan).

In addition to changing public views about how these lands should be managed, information and the scientific understanding of these ecosystems have evolved.

Each need for change was placed into one of three categories: required by law, requiring immediate attention; or able to be postponed and addressed later through the continuous assessment process.

Proposed Action

The following topics are being proposed for revision in the Forest Plan. Needs for change are addressed in the following sections, with a short description of what each change entails and why it is necessary. The proposed action for each topic is identified by italics.

1. Goals and Objectives, Standards and Guidelines, and Identification of Suitable Uses

• We propose to clarify and expand, where necessary, the description of the desired conditions for all physical, biological, social, and economic components associated with the Forest, including addressing the unique components of each geographic area. The desired conditions will be utilized to clarify overall Forest-wide resource management goals and facilitate development of objectives to reach those goals and desired conditions. Additionally, these desired conditions will identify the Forest's niche, describe how the Forest contributes to the broader vision for the Intermountain Region and the Forest Service as a whole, and provide a vision of the Forest's contribution to the human dimension.

• We propose to identify objectives that when implemented will take the Forest resources and uses toward desired conditions. These objectives will be developed considering realistic future budget expectations and will be based on expected personnel availability to implement projects to meet the objectives.

• We propose to redefine the management boundaries, identifying geographic areas that will provide a sense of place for the local publics and communities, as well as other recreating publics, when discussing activities and uses within them. Forest-wide and geographic area suitable uses will be identified.

2. Monitoring and Evaluation Requirements

Evaluation and monitoring provide knowledge and information to keep the Forest Plan viable. The appropriate selection of indicators, and monitoring and evaluation of key results helps determine if Forest Plan management direction is being met. Evaluation and monitoring also helps determine if there should be changes made to the goals and objectives, or monitoring methods.

The tie between monitoring and Forest Plan desired conditions, goals, and objectives needs to be strengthened. Priorities need to be established for monitoring elements to ensure that important items are accomplished with available funding.

Federal Regulations (36 CFR 219.19) require forests to select management indicator species (MIS). Management indicator species in the current Forest Plan were selected because their habitat requirements encompass a diverse range of conditions. Monitoring and management experience with MIS since the Plan was implemented indicate that some species may not be the best indicator for the habitat they were chosen to represent; their population trends may be affected by factors other than forest management; they are difficult to monitor accurately; and/or monitoring techniques were so complex they could not be adequately completed within present forest budgets. A revised list will better indicate the effects of management activities on fish and wildlife habitats.

• We propose to develop a meaningful, realistic, and implementable monitoring and evaluation program, focusing monitoring activities on required monitoring items (meet intent of law), eliminating duplicate monitoring requirements, and developing reasonable reporting schedules.

• We propose to revise the list of Management Indicator Species (MIS).

3. Recommendations to Congress of Areas Eligible for Wilderness Designation

The regulations implementing the National Forest Management Act (36 CFR 219.17) require that “roadless areas * * * shall be evaluated and considered for recommendation as potential wilderness areas during the forest planning process.” The 1984 Utah Wilderness Act (Pub. L. 98-428) also requires that a roadless inventory be completed during forest plan revision. Further requirements for evaluation and designation of wilderness are in the Forest Service Manual (FSM 1923, FSM 2320) and Handbook (FSH 1909.12, Chapter 7). The Manti-La Sal National Forest has completed the draft roadless area inventory.

The awareness of ecological and social values associated with roadless areas has increased since the development of the current Forest Plan. Roadless areas meeting the criteria for potential wilderness recommendation will be evaluated accordingly. Suitable uses will be determined for areas not recommended to Congress for wilderness designation.

• We propose to evaluate inventoried roadless areas for wilderness potential and make wilderness recommendations as appropriate.

• We propose to develop management direction and identify suitable uses for roadless areas that are not recommended for wilderness designation.

4. Re-evaluation of Lands Not Suited for Timber Production

• We propose to review all forested lands to determine those lands deemed not suited for timber production as required by NFMA (36 CFR 219.14).

• We propose to review and adjust as necessary the long-term sustained yield capacity, and in turn the allowable sale quantity as appropriate, in response to:

a. Changes in forest growing stock resulting from insect-related mortality.

b. Proposed changes in management direction for forest resources, as appropriate.

c. Final identification of lands suited for timber production.

5. Wild and Scenic Rivers

The Wild and Scenic Rivers Act of 1968 (Pub. L. 90-542) was enacted to protect and preserve, in their free-flowing condition, certain selected rivers of the Nation and their immediate environments. The Act established the National Wild and Scenic Rivers System (NWSRS); designated rivers included in the system, established policy for managing designated rivers, and prescribed a process for designating additional rivers to the system. The Act requires consideration of Wild and Scenic Rivers as part of the ongoing planning process. In March 2003, the Manti-La Sal National Forest, in consultation with tribal governments and State and other Federal agencies, completed an eligibility determination of all of the rivers on the Forest. Fourteen rivers segments were found to be free-flowing and to possess at least one outstandingly remarkable value, making them eligible for a suitability analysis and potential recommendation for designation into the Wild and Scenic Rivers System.

• We propose to complete the suitability analysis on the Fish Creek and Gooseberry Creek, lower left fork of Huntington Creek, Huntington Creek, Hammond Canyon, and the north fork of Whiskers (including Whiskers Draw) eligible river segments during Forest Plan revision. We propose to develop interim direction for management of activities and uses that have the potential to affect the outstandingly remarkable values for the remaining nine eligible river segments. This interim direction will be utilized for management of each river segment until the suitability analysis can be completed (post-revision), at which time the segment will either be recommended for inclusion in the Wild and Scenic River System or not.

6. Areas Where Change May Be Needed

The Forest Supervisor, Forest Leadership Team, and Forest Plan Interdisciplinary team have identified four major topics the Forest proposes to address during Forest Plan revision. Those major topics are:

• Recreation Management

• Watershed Health

• Minerals Management

• Fire/Fuels Management

The needs for change in these resource areas are evident. Because the solutions may generate some controversy or multiple solution possibilities, alternatives will be developed to determine the type and amount of change.

a. Recreation Management

By mid-century our Nation's population is projected to increase by nearly 50 percent. Simultaneously, public access to privately owned forestland is expected to continue to decline. This situation will increase the pressure on public lands to provide recreational opportunities. If public lands are to meet increased demand for recreational opportunities without experiencing unacceptable impacts to resources, emphasis must be placed on effective management solutions. In particular, it is critical that management of off-highway vehicle access and use on National Forest System lands is improved to preserve high-quality experiences for all recreational users.

The Forest Plan stated that over the planning period new developed sites would be constructed on average of about 20 PAOTS (people at one time) each year. In actuality, new construction occurred in the form of hardened dispersed sites that provide the social setting people desire while providing the resource protection needed to allow intensive use of these areas. The current Forest Plan predicted the demand for developed recreation facilities would occasionally exceed supply. The capacity of developed recreation facilities has not been exceeded. The public's demand for an unconfined camping experience has resulted in more and larger dispersed recreation sites across the Forest.

Beyond the issue of developed and dispersed recreation, the Forest Plan does not discuss the necessity of providing a broad range of recreation opportunities that would ensure the breadth of recreational experiences in a natural setting would be available for future generations.

Current Forest Plan direction focused on construction issues and occasionally on overall capacities using Recreation Opportunity Spectrum (ROS) classes to set limits for both dispersed recreation and trail use. The Plan did not anticipate dispersed recreation and off-highway vehicles as dominant forms of recreation on the Forest. Current direction focuses on recreation management units (Developed Recreation Sites, Undeveloped Motorized Areas, Semi-Primitive Recreation Areas) and does not provide guidance for ROS classes currently available on the Forest. The current ROS map is outdated and does not reflect opportunities available on the Forest. A new ROS inventory is needed to ensure that all recreation settings available are maintained to provide a variety of opportunities into the future.

The Forest Plan does not provide adequate recreation guidelines or direction for the management of winter recreation activities. Increased winter use of the Forest has led to conflicts between motorized users and nonmotorized recreationists. The best areas for motorized winter use are also the best areas for nonmotorized use.

Resource damage often takes place when unauthorized motorized or mechanized use occurs off designated routes. Current trail definitions (FSH 2309.18) do not distinguish width requirements for the range of off-highway vehicles. Off-highway vehicle routes can range from singletrack to doubletrack to roads depending on the vehicle type.

The Forest has issued numerous Outfitter and Guide (O&G) permits covering a variety of activities including guided hunts, mountain bike and OHV touring, and other recreation related activities. A demand for additional permits exists. A capacity study will be completed later as a Continuous Assessment and Planning (CAP) project to determine the need and capacity for outfitted recreational activities.

• We propose to emphasize management of dispersed recreation opportunities to address user conflicts and minimize resource impacts, while providing the recreational opportunities sought by the public.

• We propose to identify desired recreation environments using the Recreation Opportunity Spectrum (ROS). Management direction would be expanded for recreation opportunities and settings in both winter and summer seasons that balance current and anticipated visitor needs while sustaining or enhancing resources. Suitable recreational opportunities would be identified within each geographic area.

• We propose to clarify management direction for roads, off-highway vehicle routes, and hiking/biking trail systems.

• We propose to develop direction to facilitate the determination of how outfitter/guide operations may be utilized to provide recreational opportunities for that segment of the recreating public who require such services to experience the variety of recreational opportunities available on the Forest.

b. Watershed Health

Conservation of the soil and water resources of forest ecosystems is vital to all aspects of sustainable resource management. These resources, the building blocks of all ecosystems, are also the most complex elements in the landscape to consistently and comprehensively assess.

Water Resources

Streams: Management direction for mineral resources, in part, emphasizes protection for perennial sections of the drainage network that support aquatic life. The Plan does not address management of activities or permitted uses within intermittent and ephemeral stream reaches and springs, the source areas for perennial stream segments.

Streambank trampling, in areas of concentrated livestock and recreational use, is resulting in soil compaction, the loss of stabilizing vegetation, streambank erosion, increased sediment delivery, and changes in channel structure and function.

Springs: In some instances, uses of and activities that occur around spring developments (by wildlife, livestock, and recreation activities) are resulting in undesirable effects to soil, vegetation, wildlife habitats, and riparian ecosystems. In addition, spring developments involving flow diversions are affecting the dependent, associated riparian ecosystem as surface flows are reduced and/or diverted.

Wetlands: Wetlands are included in the general definition and management direction for riparian areas. The Plan does not separate wetlands from other riparian areas to reflect their unique soils, vegetation, landform, sensitivity to disturbances, recovery potentials, and legal protections.

Proper Use Criteria: The proper use criteria for rangelands in the current Plan lacks the specificity recommended by the Regional Office to provide for the desired resource conditions on lands affected by grazing and browsing animals.

Concerns have arisen over the sustainability of riparian and upland browse species due to browsing pressure on young plants, the effects of streambank trampling, the physiological differences of hydric and non-hydric species in the greenline, and the inconsistency in definition and terminology for soil disturbance in the riparian zone.

Soil Productivity: Increasing knowledge and understanding has led to a greater emphasis on long-term soil productivity. Management direction in the current Plan does not address the role of effective ground cover and above ground organic matter, which protects and/or contributes nutrients to the soil resource.

Water Quality/Quantity: Best Management Practices (BMPs) have been developed in cooperation with the Utah Department of Environmental Quality and other State and Federal agencies as part of a statewide Non-Point Source Management Plan for Silvicultural Activities. This plan identifies standard management practices to reduce non-point source pollution from silvicultural activities. These standard practices, which are not addressed in the current Plan, can provide similar soil/water protection from other management activities and permitted uses.

Since the current Plan was approved, some stream segments on the Forest have been identified as water quality impaired under the Clean Water Act. These impaired stream segments are known as 303d waterbodies. The current Plan does not address 303d waterbodies.

The Forest Plan is too general to secure favorable water flow to meet Forest purposes and to sustain ecological functions. Forest specialists have identified concerns regarding continued water depletions and/or diversions and their effects on high-value aquatic sites such as riparian areas, recreational streams, Colorado cutthroat conservation/recovery watersheds, wetlands, wild and scenic rivers, research natural areas, and other water dependent sites.

Municipal Watershed Management

Numerous municipalities depend on the Forest for all or a portion of their culinary water. The Plan currently identifies only a small fraction of the actual municipal water sources under the municipal water supply (MWS) management prescription. The Plan is inconsistent in its identification and management direction for municipal water supply areas.

As per the 1996 amendment to the Safe Drinking Water Act, all municipalities are required to identify their drinking water source areas, evaluate the risk of accidental contamination, and develop source protection plans accordingly. Drinking water source protection plans have not been evaluated to ensure Forest Service management activities or permitted uses do not jeopardize drinking water source areas.

While Forest Plan direction seems generally adequate, it does promote vegetation management for the protection of municipal water supply areas from catastrophic events, such as wildland fire, which may result in large-scale impacts to vegetation, soil, and ultimately, water quality and water supply system infrastructure.

• We propose to clarify desired conditions and strengthen existing direction for management of activities and uses within stream-side riparian areas, wetlands, and springs, including emphasizing the need to provide for water quality/quantity needs for ecosystems and threatened and endangered species. Specific items we propose to address include:

(a) Clarify appropriate protections for perennial, intermittent, and ephemeral stream reaches, with an emphasis on management of activities and uses within habitat associated with aquatic environments.

(b) Clarify direction limiting streambank alteration to levels which minimize effects to streambank soils and vegetation, allowing streams to maintain normal channel morphology and function.

(c) Clarify and update direction for spring developments to include protection for wildlife, the spring source area, and the associated riparian area.

(d) Clarify direction, as appropriate, to sustain and protect wetland function and values.

(e) Revise proper use criteria to ensure livestock grazing is managed to meet desired conditions for browse species, hydric and non-hydric species in the greenline, and ensure sufficient ground cover in riparian zones.

(f) Incorporate description and role of effective ground cover and above ground organic matter.

(g) Incorporate direction from Best Management Practices (BMPs) for soil and water resources, as appropriate.

(h) Incorporate direction for 303d listed waterbodies to ensure management activities or permitted uses do not contribute to further degradation or new listings.

(i) Include direction for qualifying and quantifying consumptive and non-consumptive water needs for instream flows, in-place standing water, and conservation pools. To facilitate identification of suitable uses, we propose to develop criteria to identify sites where water developments, diversions, and occupancy to divert may be prohibited, or situations where mitigation may be required to protect and provide for National Forest resources and uses.

(j) Clarify direction for management of suitable uses within those areas where municipal water sources areas exist.

c. Minerals Management

Oil and Gas Leasing: The Nation's forests play a significant role in meeting America's need for the production and transmission of energy. Unless otherwise restricted, National Forest System lands are available for energy exploration and development. The Oil and Gas Leasing FEIS made a determination of areas not available for leasing (NAL) and identified a number of sensitive resources that require protection through stipulations. The Record Of Decision on Oil and Gas Leasing stated decisions that designated lands as not available for leasing would be revisited. Current leasing stipulations should be reviewed relative to current laws and agency roles.

Coal Suitability: Federal regulations (43 CFR 3420.1-4) require: (1) identification of areas acceptable for further consideration for coal leasing take place during forest planning or in a land use analysis, and (2) a land use plan contain an estimate of the amount of coal recoverable by either surface or underground mining operations or both. Coal unsuitability criteria and changes in other resources (such as additional threatened, endangered, and sensitive species) require a review of unsuitability, and management direction revised based on the review.

Common Variety Minerals: Demand for common variety minerals (gravel, sand, and stone) is expected to increase. Because of limited supplies of common variety mineral sources, Forest Service and local government needs should be considered over commercial uses by private developers. Criteria for issuing free-use permits to other agencies, local governments, and the public for non-commercial uses of common variety minerals are not discussed in the Plan.

Mine Reclamation: Several abandoned uranium/vanadium mines and other mining area sites have been inventoried for reclamation. These abandoned mines present a hazard and are sources of potentially polluting materials.

Gypsum: The existence of gypsum deposits is not acknowledged in the 1986 Forest Plan.

Paleontological Resources: The Manti-La Sal National Forest contains a large variety of invertebrate and vertebrate, as well as plant fossils. Regulations provide for protection of paleontological resources (e.g., fossils). The Forest Plan does not provide direction for issuing permits or for the documentation and curation of discoveries.

• We propose to review areas currently identified as Not Administratively Available for Leasing (NAL), review oil/gas (including coalbed methane) leasing and occupancy stipulations, and clarify/update as needed.

• We propose to review coal leasing unsuitability criteria and determine if any additional lands are unsuitable for leasing or if any previously identified suitable areas are now unsuitable. We also propose to:

(a) Incorporate estimates of remaining recoverable coal reserves.

(b) Review and clarify/update coal stipulations.

(c) Identify areas for withdrawal as appropriate.

• We propose to focus management of common variety minerals for Forest, local government, or small/limited personal use, and limit commercial use or development.

• We propose to emphasize reclamation of abandoned mines.

• We propose to update locatable minerals definition and management direction to include gypsum.

• We propose to clarify direction for management of paleontological resources (such as research opportunities and interpretation).

d. Fire and Fuels Management

New policy and legislation has been enacted since the Utah Fire Amendment updated fire management direction in the Forest Plan. The amendment was approved prior to the National Fire Plan (2001), the 10-Year Comprehensive Wildland Fire Strategy (2001), the Healthy Forests Initiative (2000), and the Healthy Forests Restoration Act (2003).

Residential communities and recreation residences continue to expand into areas within and around the boundaries of the Manti-La Sal National Forest. This boundary zone between forestland and developed, private lands is known as the wildland-urban interface. The wildland-urban interface has been recognized as a high priority area for fire and fuels management given the risks to life and property from wildfire. The current Forest Plan does not address management of the wildland-urban interface to provide a defensible space from wildland fire.

• We propose to review and update the Forest Plan, as necessary, to reflect current policy, legislation, and terminology for fire and hazardous fuel management. This will include a fire regime/condition class assessment and identification of management direction for vegetation and fuel treatments within the wildland-urban interface. Criteria may be developed to facilitate identification of priority treatment areas in coordination with the local communities.

Topics Where Existing Direction Does Not Fully Convey the Intent of Forest Plan, Ecosystem Management, Four Threats, and Strategic Plan Goals

How management of each of these resource areas contributes to addressing Forest Plan, Ecosystem Management, Four Threats, and Forest Service Strategic Plan goals were considered in identifying specific items associated with each resource area to be addressed through revision.

Forest and Rangeland Health/Condition

Invasive Species: Invasive species such as cheat grass and tamarisk are present on the Forest. Forest users and management activities have the potential to introduce or spread invasive species. The current Plan does not address invasive species.

Noxious Weeds: Current Plan direction focuses more heavily on noxious weed control than prevention. Forest users and management activities continue to contribute to the establishment and spread of noxious weeds.

Native Seed Collection: The Manti-La Sal National Forest offers several permits for the collection of native seed, much of which is used for revegetation projects on State and Federal lands. Forest resource specialists have voiced concerns regarding the collection of native seed such as collection in protected areas, timing and method of harvest, plant and seed depletions from continuous harvesting, and accuracy in seed source identification. The current Plan does not provide direction regarding the collection of native seed.

• We propose to incorporate objectives for invasive species and noxious weeds that focus on prevention, early detection, and control to restrict their colonization and expansion on the Forest.

• We propose to incorporate direction for the collection of native seed to address protection of Forest resources.

Terrestrial and Aquatic Species

The current Forest Plan addresses many of the key indicators of biological diversity. These indicators are largely described and analyzed as separate functional entities. There is little information as to how these indicators interact with one another and with natural processes, particularly at the broad, forest-level scale.

The Northern Goshawk Amendment provided specific direction for activities occurring around active goshawk nests. The current Plan does not provide standards for habitat management or protection measures for other raptor species. Under the Migratory Bird Treaty Act, Eagle Protection Act, and Endangered Species Act, the Forest is required to protect raptors, their nests, or eggs.

• We propose to clarify/update management direction for species and communities in which they occur (the whole instead of pieces). As appropriate, management direction will be incorporated from approved conservation agreements and strategies for threatened, endangered, and sensitive terrestrial and aquatic species found on the Forest.

• We propose to provide direction that contributes to the maintenance/improvement of native species habitat on National Forest System lands.

• We propose to incorporate guidance for management activities and permitted uses around active raptor nest sites (for species other than northern goshawk) from nest site selection to fledging.

Topics Where Existing Direction is Inconsistent With Meeting Agency Direction

This topic represents inadequate or outdated Forest Plan direction that should be updated to bring the Forest Plan current with national direction.

Scenery Management

The current Forest Plan includes Forest-wide standards that were developed under the Visual Management System (1974). In 1995, the Forest Service adopted the Scenery Management System (SMS). The new system is designed to incorporate ecological concepts and valued cultural features to better address and complement other resource needs and management strategies. In response to an appeal on November 18, 1993, an agreement between the Forest Service, Southern Utah Wilderness Alliance, and Owen Severance was reached stating that the Forest Service would complete a visual resource inventory for the Monticello Ranger District prior to revision of the Forest Plan.

• We propose to develop scenery management objectives as part of the desired conditions, which will utilize an inventory of landscape character, visual sensitivity, and scenic integrity. These attributes, along with the objectives, will provide the framework for the Scenery Management System.

Heritage Resources

While Forest Plan direction is adequate and appropriate to meet the basic requirements of section 106 of the law, new legislation, agency direction, and trends in public use warrant review and revision of current Forest Plan direction. Forest-wide direction does not address changes in the areas of tribal consultation and provide emphasis on the requirements of Section 110 of the National Historic Preservation Act.

• We propose to clarify objectives for cultural resource areas and provide direction for the proactive identification, preservation, and nomination to the National Register of Historic Properties of historical and archeological properties on lands within the Forest's jurisdiction.

Topics Where Corrections Would Not Require Significant Revision Resources

Addressing the following topics during revision would simplify and clarify the intent of the Forest Plan and would likely not require significant resource expenditures.

• Remove administrative or procedural direction to reduce redundancy of agency requirements.

• Correct typographical and description errors. These editorial corrections, clarifications, and updates will result in more accurate Forest Plan.

• Eliminate objectives and implementation schedules that are not required. Many of the objectives and schedules in the existing Forest Plan are not required and are quickly out-of-date.

• Eliminate redundant monitoring requirements.

• Update acreages and other “Current Situation” data in the Forest Plan.

• Move management direction for paleontological resources from the Heritage program to the Minerals program.

• Clarify direction to allow for flexibility in determining a grazing system strategy dependent on allotment needs.

• Assess rangeland capability as per current national and regional direction using current data and technology.

• Clarify timber management direction to provide for the protection of aspen regeneration projects.

• Update special designations list with research natural areas and special interest areas designated since current Forest Plan implementation and incorporate management direction for these areas as found in establishment records.

Topics Not Addressed in the Forest Plan Revision That Will Be Addressed Through the Continuous Assessment and Planning (CAP) Process

The following topics are areas where existing management direction needs to be clarified, refined, or changed. Addressing these topics during Forest Plan revision would require significant resources. These topics are better addressed at a later time and may need to be analyzed at a different scale.

Continuous Assessment and Planning Projects (CAP)
Lands | • Review and update guidance for long-term use or occupancy, such as utility corridor designations and communication sites. Evaluate and designate new sites as appropriate.
| • Develop a Land Adjustment Plan.
| • Prepare a Rights-of-Way Acquisition Plan.
Recreation | • Complete a capacity analysis for the land to accommodate outfitter and guide services.
| • Establish use capacity in some areas of the forest to minimize conflicts and ensure quality experiences.
| • Develop a recreation facilities master plan.
| • Develop a recreation and trails business plan.
Watershed health | • Review municipal drinking water source protection plans and develop management direction as appropriate.
Special interest areas | • Evaluate potential Special Interest Areas (SIAs).
| ○ Maple Canyon, White Mountain, Maloy Park, and Little Dry Mountain have been identified by Forest specialists for potential SIA designation.
| • Evaluate proposed expansion of Mont E Lewis Botanical Area.
| • Identify and review archeological resource sites for potential SIA designation.
Research natural areas | • Evaluate potential and proposed research natural areas (RNAs). Sinbad Ridge has been proposed by the Nature Conservancy for RNA designation.
Transportation | • Update the travel management plan. system management
| • Complete watershed scale roads analyses.
Wilderness management | • Develop a wilderness plan for Dark Canyon Wilderness.
| • Analyze capacity study and set group size limits to mitigate the impacts on wilderness resources.
Wild and scenic rivers suitability | • Complete suitability analysis for the nine remaining eligible river segments.

Potential Alternatives

The No Action Alternative, continuing management under the present Forest Plan, will be considered in the analysis of the proposed action. The No Action Alternative would not include any of the legally mandated revision topics.

Topics to be addressed in the proposed action were described previously. No other alternatives have been developed at this time. However, additional alternatives will likely be developed based upon public comments.

Involving the Public

The Forest Service is seeking information, comments and assistance from individuals, organizations, tribal governments, and Federal, State, and local agencies that may be interested in or affected by the proposed action (36 CFR 219.6).

Public participation will be solicited by notifying (in person and/or by mail) known interested and affected publics. News releases will be used to give the public general notice, and public involvement opportunities will be offered. Public participation activities include written comments, open houses, focus groups, and collaborative forums.

Public participation will be sought throughout the revision process, but will be particularly important at several points along the way. The first formal opportunity to comment is during the scoping process (40 CFR 1501.7). Five public collaborative forums will be scheduled in early November 2004. The locations and exact dates/times have yet to be determined. When locations, dates and times have been arranged, the public will be notified through mailings, news releases, and public notices.

Release and Review of the EIS

The Draft EIS is expected to be filed with the Environmental Protection Agency (EPA) and will be available for public comment in the late fall/early winter of 2005. At that time, the EPA will publish a notice of availability in the Federal Register. The comment period on the Draft EIS will be at least 90 days from the date EPA publishes the Notice of Availability in the Federal Register, as required by planning regulations.

The Forest Service believes that at this early stage it is important to give reviewers notice of several court rulings related to public participation in the environmental review process. First, reviewers of the Draft EIS must structure their participation in the environmental review of the proposal so that it is meaningful and alerts an agency to the reviewer's position and contentions; Vermont Yankee Nuclear Power Corp. v. NRDC 435 U.S. 519, 553 (1978). Also, environmental objections that could be raised at the Draft EIS stage but are not raised until after completion of the Final EIS may be waived or dismissed by the courts; City of Angoon v. Hodel, 803 F 2d 1016, 1022 (9th Cir. 1986) and Wisconsin Heritages, Inc., v. Harris, 490 F Supp. 1334, 1338 (E.D. Wis. 1980). Because of these court rulings, it is very important that those interested in this proposed action participate by the close of the comment period and that substantive comments and objectives are made available to the Forest Service at a time when it can meaningfully consider them and respond to them in the Final EIS.

To assist the Forest Service in identifying and considering issues and concerns on the proposed programmatic actions, comments on the Draft EIS should be as specific as possible. It is also helpful if comments refer to specific pages or chapters of the draft statement. Comments may also address the adequacy of the Draft EIS or the merits of the alternatives formulated and discussed in the statements. Reviewers may wish to refer to the Counsel on Environmental Quality Regulations for implementing the procedural to the Counsel on Environmental Quality Regulations for implementing the procedural provisions of the National Environmental Policy Act (NEPA) at 40 CFR 1503.3 in addressing these points.

After the comment period ends on the Draft EIS, comments will be analyzed, considered, and responded to by the Forest Service in preparing the Final EIS. The Final EIS is scheduled to be completed in the spring/summer of 2007. The responsible official will consider the comments, responses, and environmental consequences discussed in the Final EIS, and applicable laws, regulations, and policies in making decisions regarding the revision. The responsible official will document decisions and reasons for the decisions in a Record of Decision for the revised plan. The decisions will be subject to appeal in accordance with 36 CFR, part 217. Jack Troyer, Intermountain Regional Forester, is the responsible official for this EIS.

Dated: October 8, 2004.
Alice B. Carlton,
Forest Supervisor.

[FR Doc. 04-23210 Filed 10-22-04; 8:45 am]

BILLING CODE 3410-11-P